DEPARTMENT OF HEALTH AND HUMAN SERVICES

Administration for Children and Families

Proposed Information Collection Activity; Head Start Evaluation of a Trauma-Informed Care Program (New Collection)

AGENCY: Office of Head Start, Administration for Children and Families, Health and Human Services (HHS).

ACTION: Request for public comment.

SUMMARY: The Office of Head Start, Administration for Children and Families (ACF), is proposing to collect data for a new evaluation of a trauma-informed care program that will include a small randomized controlled trial across 10 sites within Head Start Region V. The goals of the project are to identify the implementation supports and methods needed to enable teachers to effectively implement Trauma-Informed Care in early care and education programs, and to evaluate its outcomes. Information collected will be used to inform ongoing training and technical assistance (TTA) work provided by the Head Start Centers, particularly decisions regarding allocation of TTA resources. More generally, results may inform OHS guidance around social-emotional programming.

DATES: Comments due within 60 days of publication. In compliance with the requirements of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street, SW, Washington, DC 20201, Attn: ACF Reports Clearance Officer. All requests, emailed or written, should be identified by the title of the information collection.

SUPPLEMENTARY INFORMATION:

Description: The National Center on Health, Behavioral Health, and Safety, in partnership with Child Trends and the Center for Childhood Resilience at the Anne & Robert H. Lurie Children's Hospital of Chicago (Lurie), will conduct information collection activities across 10 sites within Head Start Region V as part of a small randomized controlled trial of the Ready to Learn through Relationships (RLR) program, a trauma-informed Framework and Toolkit designed to promote resilience in young children. In this evaluation, sites will be matched on a number of factors that may be related to implementation and randomized to either a low- or high-intensity TTA condition. The low-intensity condition will receive 4 hours of training, a “toolkit” of activity-based handouts, and access to virtual TA office hours. The high-intensity condition will include 4 hours of additional training on use of the toolkit modules, 6 hours of implementation support, and monthly classroom coaching.

Region V Head Start programs that choose to voluntarily participate in the RLR program will be asked to complete a number of implementation and outcomes measures and participate in other evaluation activities. Data collection will involve virtual semi-structured interviews and focus groups at the end of the evaluation period, web-based surveys (pre and post), a monthly web-based log of coaching activities completed, and repeated teacher reports of practices throughout the day on a mobile app during 5 weeks across the school year.

The information to be collected focuses on teacher practices for supporting children's social-emotional development and on training and implementation factors that may enhance these practices, which is directly relevant to Head Start's mission. Information obtained will be shared with Regional TTA providers and site administrators to inform their ongoing and future TTA work. More specifically, results of the evaluation will identify the extent to which more intensive TTA with ongoing coaching and on-site expert consultation enhances teacher practice beyond a lower-intensity TTA approach. Additionally, data are expected to identify implementation factors that may enhance outcomes at both the level of the teacher and Head Start Centers.

Respondents: All early childhood centers in Head Start Region V that meet inclusion criteria will be invited to submit application forms to participate in the evaluation, and approximately 10 centers will be selected. Within each center (or site), we anticipate there will be three classrooms of 3-5 year olds. Participants at each center will consist of 7 or 8 individuals (e.g., directors, mental health and behavior consultants, lead and assistant teachers, and coaches), for a total of 75 individuals across all centers or sites.

Annual Burden Estimates
Instrument | Total number of respondents | Total number of responses per respondent | Average burden hours per response | Total/annual burden hours
Trauma-Informed System Change Instrument (TISCI) Questionnaire (all site staff) | 75 | 2 | 0.17 | 26
Attitudes Related to Trauma-Informed Care (ARTIC) Questionnaire (all site staff) | 75 | 2 | 0.25 | 38
Site Application Form (site administrators) | 20 | 1 | 1 | 20
Site Administrator Interview | 10 | 1 | 1 | 10
Coach/Teacher Background Form | 50 | 1 | 0.10 | 5
Coaching Logs | 20 | 14 | 0.25 | 70
Coach Satisfaction Survey | 20 | 1 | 0.25 | 5
Coach Interview | 20 | 1 | 1 | 20
Professional Self-Care Scale (PSCS)—teachers | 30 | 2 | 0.10 | 6
Ecological Momentary Assessment (EMA) Survey -teachers | 30 | 100 | 0.07 | 210
Teacher Satisfaction Survey | 30 | 1 | 0.25 | 8
Teacher Focus Group | 15 | 1 | 1 | 15

Estimated Total Annual Burden Hours: 433.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Head Start Act Sec. 648.

Mary B. Jones,
ACF/OPRE Certifying Officer.

[FR Doc. 2021-17242 Filed 8-11-21; 8:45 am]

BILLING CODE 4184-40-P